DEPARTMENT OF COMMERCE

National Oceanic and Atmospheric Administration

15 CFR Part 922

[Docket No. 230322-0082]

RIN 0648-AV85

National Marine Sanctuary Regulations; Corrections and Correcting Amendments

AGENCY: Office of National Marine Sanctuaries (ONMS), National Oceanic and Atmospheric Administration (NOAA), Department of Commerce.

ACTION: Final rule; correction.

SUMMARY: NOAA published a final rule that appeared in the Federal Register on January 6, 2023, announcing revisions to the National Marine Sanctuaries program regulations. This document makes several non-substantive, technical corrections to inadvertent errors that appeared in the final rule.

DATES: This correction and correcting amendments are effective on April 7, 2023.

ADDRESSES: The final rule is accessible via the internet at the Office of the Federal Register website at https://www.federalregister.gov.

FOR FURTHER INFORMATION CONTACT: Vicki Wedell, NOAA Office of National Marine Sanctuaries, (240) 533-0650, Vicki.Wedell@noaa.gov.

SUPPLEMENTARY INFORMATION:

I. Background

In the final rule which appeared in the January 6, 2023 Federal Register (88 FR 953), there were various inadvertent, technical, and typographical errors in the amendatory instructions. On February 3, 2023, at 88 FR 7357, the effective date was delayed in order to provide NOAA time to prepare technical corrections to the final rule. This document corrects those errors and applies those corrections as if they were included in the final rule that appeared in the January 6, 2023 Federal Register publication.

II. Summary of Technical Corrections to Final Rule

NOAA is publishing this correction to revise the regulatory instructions so that implementing regulations are not removed or otherwise altered in unintended ways that would create inaccuracies in the regulatory text and cause public confusion. This correction is effective on April 7, 2023, the date on which the final rule is effective.

Here is a summary of the corrections and correcting amendments NOAA is making.

On page 959, in the second column, § 922.5 is corrected so that it tracks without change, except for renumbering, existing regulatory text published at § 922.42 “Allowed activities”, as shown in the “Correction” section.

On page 965, in the third column, corrects amendatory instruction 14 to remove “Cruise ship” from § 922.81 to ensure consistent interpretation of like terms throughout the System.

On page 965, at the end of the third column, amendatory instruction 15 included an unnecessary and confusing internal cross reference in § 922.82(c) to subpart D, which sets forth procedures and criteria for issuance of National Marine Sanctuary (NMS) permits. Section 922.82(c) provides an exception to the prohibitions set forth in § 922.82(a) for activities necessary to respond to an emergency threatening life, property or the environment, whereas § 922.82(d) provides a separate, independent exception for activities executed in accordance with a permit issued in accordance with subpart D. Therefore, the internal cross-reference in § 922.82(c) is superfluous, and amendatory instruction 15 is corrected to remove the cross-reference in § 922.82(c) to subpart D and as shown in the “Correction” section.

This correction notice includes a new instruction that revises paragraphs § 922.84(a) and (j) that were inadvertently omitted from the January 6, 2023 final rule. These paragraphs govern the issuance of certifications in Greater Farallones NMS. For purposes of consistency and clarity, the date of sanctuary expansion is added to § 922.84(a), the internal cross-reference in § 922.84(a) to § 922.47, governing certifications, is updated and changed to § 922.10, and the internal cross-reference in § 922.84(j) to § 922.50, governing appeals, is updated and changed to § 922.37 in the regulatory text.

On page 966, in the second column, amendatory instruction 19 revises paragraph § 922.92(c) to include a reference to special use permits issued pursuant to subpart D that was inadvertently omitted from the final rule, and is included in the “Correction” section.

On page 966, in the third column, amendatory instruction 23 did not include a reference to special use permits issued pursuant to subpart D. Therefore, amendatory instruction 23 is corrected as shown in the “Correction” section.

On page 967, in the first column, amendatory instruction 27 included an unnecessary and confusing internal cross reference in § 922.112(d) to subpart D, which sets forth procedures and criteria for issuance of NMS permits. Section 922.112(d) provides an exception to the prohibitions set forth in § 922.112(b) for activities necessary to respond to an emergency threatening life, property or the environment, whereas § 922.112(d) provides a separate, independent exception for activities executed in accordance with a permit issued in accordance with subpart D. Therefore, the internal cross-reference in § 922.112(d) is superfluous, and amendatory instruction 27 is corrected to remove the cross-reference in § 922.112(d) to subpart D, as shown in the “Correction” section.

On page 967, in the first column, amendatory instruction 28 is corrected by updating the address provided at § 922.113(b), as shown in the “Correction” section below. A corresponding change to the “ATTN” line is made at § 922.83(b). On page 966, in the first column, amendatory instruction 16 is updated to correspond to reflect that there is now one Superintendent and one mailing address for both Greater Farallones National Marine Sanctuary and Cordell Bank National Marine Sanctuary.

On page 967, in the second column, amendatory instruction 30 inadvertently updated § 922.122(a)(7) by referencing an incorrect paragraph. NOAA meant to revise paragraph (a)(8), not paragraph (a)(7). Additionally, the instructions to § 922.122(f) inadvertently changed the applicable subparagraphs from (a)(2) through (11) to (a)(2) through (10), which is being restored to the original text, as shown in the “Correction” section below. Moreover, a new instruction is included in the regulatory text below for § 922.122(g), which will replace the reference § 922.49 with § 922.36 at subpart D.

On page 967, in the second column, amendatory instruction 31 updated paragraph § 922.123(a) by inadvertently changing the applicable subparagraphs from (a)(2) through (10) whereas the original text included the applicable subparagraphs from (a)(2) through (11). Amendatory instruction 31 is corrected as shown in the “Correction” section.

On page 967, in the third column, amendatory instruction 32 directed the Office of the Federal Register to revise the introductory text, paragraph (a), and the first sentence of paragraph (b) in 15 CFR 922.130. Regarding the revision of § 922.130(a), only the first sentence of § 922.130(a) was intended to be updated, and the remaining sentences in the paragraph were to remain unchanged. However, the instruction revised the first sentence and inadvertently deleted the rest of paragraph (a). The instruction should have revised the first sentence of paragraph (a) and then indicated that the remaining sentences in the paragraph were to remain unchanged. In order to retain the rest of paragraph (a) as described above, NOAA corrects the amendatory instruction as shown in the “Correction” section.

On pages 967-968, amendatory instruction 34 directed the Office of the Federal Register to revise paragraph (c)(1) and (d) through (f) in 15 CFR 922.132.

In paragraph (c)(1), NOAA inadvertently changed the applicable subparagraphs from (a)(2) through (12), which is restored through the regulatory text below. In addition, in a rulemaking on November 15, 2021 (86 FR 62901), NOAA updated the reference for applicable activities subject to this exemption for the purposes of Davidson Seamount Management Zone to be the 2021 Final Environmental Assessment for Monterey Bay National Marine Sanctuary Management Plan Review. NOAA retains that reference in this correction.

In paragraph (e), NOAA's intent was only to update references for authorizations from § 922.49 to § 922.36 of the new subpart D of part 922. NOAA inadvertently omitted existing text that referenced non-invasive introduced species of shellfish, as determined by NOAA and the State of California. The correct applicable subparagraphs and clarifying text is restored as shown in the “Correction” section below.

In paragraph (f), NOAA's intent was only to update references for certifications from § 922.47 to § 922.10 of the new subpart D of part 922. However, the instruction inadvertently omitted the existing text that referenced the disposal of dredged material that does not include the beneficial use of dredged material as defined by the site regulations. In order to retain the existing regulatory text, NOAA corrects the amendatory instruction as shown in the “Correction” section.

This correction includes a new instruction that revises paragraphs §§ 922.134(a)(2) and (b)(2) to conform to the consolidation to subpart D made in the January 6, 2023 final rule. This section pertains to review of certain State permits and leases. This correction adds a cross reference to the new section § 922.36 in consolidated subpart D and is corrected in the regulatory instructions.

On page 968, in the third column, amendatory instruction 38 for § 922.142(f) regarding the limitations on the issuance of permits for Stellwagen Bank NMS, is corrected by replacing the reference to the statute with reference to the issuance of special use permits pursuant to the new subpart D, as shown in the “Correction” section.

On page 969, in the first column, amendatory instruction 42 inadvertently updated § 922.152(a)(5) regarding the Olympic Coast NMS prohibition on drilling by changing “submerged lands” to “seabed”. As such, the instruction to revise § 922.152(a)(5) is removed. This correction also updates § 922.152(h) regarding the limitations on the issuance of permits for Olympic Coast NMS by replacing the reference to the statute with reference to the issuance of special use permits pursuant to the new subpart D, as shown in the “Correction” section.

On page 970, in the first column, amendatory instruction 47 updates § 922.162 of site-specific definitions for Florida Keys NMS, but inadvertently did not remove the terms “Seagrass” and “Vessel” as those terms have been moved to the program regulations at § 922.11. The instruction is corrected as shown in the “Correction” section.

On pages 972-973, amendatory instructions 53 and 56 are revised. The boundary description for Thunder Bay NMS is set forth in 15 CFR 922.190, and the boundary coordinates for the Thunder Bay NMS is set forth in Appendix A of 15 CFR 922, subpart R. This sanctuary was expanded in 2014 (79 FR 52960; September 5, 2014). The amendatory instructions to revise the boundary description in 15 CFR 922.190 and the table of boundary coordinates were inadvertently included in the final rule, when only the first sentence of the boundary description was only to be updated to read “3,247 square nautical miles (nmi²) (4,300 sq. mi.).” NOAA is correcting the language in 15 CFR 922.190 in instruction 53 to accurately reflect this intended update, and removing instruction 56 to retain the existing regulatory descriptions at Appendix A of 15 CFR 922, subpart R, as shown in the “Correction” section.

This correction includes a new amendatory instruction 53a that revises paragraph § 922.193(d) referring to the applicability of the site-specific prohibitions to permits and to certifications issued for authorizations in existence on the effective date of the Thunder Bay NMS regulations. Subparagraph (d)(1) is revised to reference special use permits issued pursuant to the new subpart D, as shown in the regulatory section below. Also, subparagraph (d)(2) is removed and reserved since § 922.194 is no longer applicable and was removed and reserved.

This correction includes a new instruction that revises §§ 922.201(b) and 922.211(b) to conform to the consolidation to subpart D made in the January 6, 2023 final rule. This correction adds cross references to the new section § 922.11 on definitions in the program regulations that was not updated in the Mallows Bay-Potomac River and Wisconsin Shipwreck Coast NMS's site-specific regulations and appears in the regulatory section.

On page 973, in the second and third columns, respectively, amendatory instructions 57 and 59 correct §§ 922.205(a) and 922.215(a) by removing the phrase “under this section” from each instruction in the regulatory text below since the permit procedures are not included in those sections, but rather are now consolidated in Subpart D, as shown in the “Correction” section.

7. On page 973, in the second and third columns, respectively, amendatory instructions 58 and 60 did not revise §§ 922.206(a) and 922.216(a) to conform to the consolidation to subpart D made in the January 6, 2023 final rule. This correction adds cross references to the new subpart D for permitting in the program regulations that was not updated in the Mallows Bay-Potomac River and Wisconsin Shipwreck Coast NMS's site-specific regulations. In addition, the effective dates of each NMS designation are added through this correction. These changes are shown in the “Correction” section.

III. Correction

In FR Document 2022-28225 at 88 FR 953 in the issue of January 6, 2023 (delayed effective date at 88 FR 7357, February 3, 2023), on pages 959-973, the following corrections are made:

1. On page 959, in the second column, in amendatory instruction 3, correct § 922.5 to read as follows:

§ 922.5 [Corrected]

All activities (e.g., fishing, boating, diving, research, education) may be conducted unless prohibited or otherwise regulated in the site-specific regulations covered by this part, subject to any emergency regulations promulgated under this part, subject to all prohibitions, regulations, restrictions, and conditions validly imposed by any Federal, State, or local authority of competent jurisdiction, including but not limited to, Federal, Tribal, and State fishery management authorities, and subject to the provisions of section 312 of the National Marine Sanctuaries Act (NMSA) (16 U.S.C. 1431 et seq.). The Assistant Administrator may only directly regulate fishing activities pursuant to the procedure set forth in section 304(a)(5) of the NMSA.

2. On page 965, in the third column, in part 922, correct amendatory instruction 14 and § 922.81 introductory text to read as follows:

14. In § 922.81:

a. Revise the introductory text; and

b. Remove the definitions of “Attract or attracting”, “Clean”, “Cruise ship”, “Deserting”, “Harmful matter”, “Introduced species”, and “Seagrass”.

The revision reads as follows:

§ 922.81 [Corrected]

In addition to those definitions found at § 922.11, the following definitions apply to this subpart:

* * * * *

3. On page 965, in the third column, in amendatory instruction 15, correct paragraph (d) to read as follows:

§ 922.82 [Corrected]

* * * * *

(d) The prohibitions in paragraphs (a)(2) through (9) and (11) through (16) of this section do not apply to any activity executed in accordance with the scope, purpose, terms, and conditions of a National Marine Sanctuary permit issued in accordance with subpart D of this part and § 922.83, or a special use permit issued pursuant to subpart D of this part.

4. On page 966, in the first column, in amendatory instruction 16, correct paragraph (b) to read as follows:

§ 922.83 [Corrected]

* * * * *

(b) Applications for permits should be addressed to the Director, Office of National Marine Sanctuaries; ATTN: Superintendent, Greater Farallones and Cordell Bank National Marine Sanctuaries, 991 Marine Dr., The Presidio, San Francisco, CA 94129.

5. On page 966, in the second column, in amendatory instruction 19 correct paragraph (a) introductory text and paragraph (c) to read as follows:

§ 922.92 [Corrected]

(a) Except as may be necessary for national defense (subject to the terms and conditions of Article 5, Section 2 of the Designation Document) or to respond to an emergency threatening life, property, or the environment, or except as may be permitted by the Director in accordance with subpart D of this part and § 922.93 and 922.94, the following activities are unlawful for any person to conduct or to cause to be conducted within the Sanctuary:

* * * * *

(c) The prohibitions in this section and in § 922.94 do not apply to any activity conducted under and in accordance with the scope, purpose, terms, and conditions of a National Marine Sanctuary permit issued pursuant to subpart D of this part and § 922.93, or a special use permit issued pursuant to subpart D of this part.

* * * * *

6. On page 966, in the third column, in amendatory instruction 23 correct paragraph (e) to read as follows:

§ 922.103 [Corrected]

* * * * *

(e) The prohibitions in paragraphs (a)(2) through (15) of this section and §§ 922.104 and 922.105 do not apply to any activity conducted under and in accordance with the scope, purpose, terms, and conditions of a National Marine Sanctuary permit issued pursuant to subpart D of this part and § 922.107, or a special use permit issued pursuant to subpart D of this part.

7. On page 967, in the first column, in amendatory instruction 27, correct paragraph (d) to read as follows:

§ 922.112 [Corrected]

* * * * *

(d) The prohibitions in paragraphs (a)(2) through (7) of this section do not apply to any activity executed in accordance with the scope, purpose, terms, and conditions of a National Marine Sanctuary permit issued pursuant to subpart D of this part and § 922.113, or a special use permit issued pursuant to subpart D of this part.

* * * * *

8. On page 967, in amendatory instruction 28, correct § 922.113 to read as follows:

§ 922.113 [Corrected]

(a) A person may conduct an activity otherwise prohibited by § 922.112(a)(2) through (7) if the activity is specifically authorized by and conducted in accordance with the scope, purpose, terms and conditions of a permit issued under this section and subpart D of this part.

(b) Applications for permits should be addressed to the Director, Office of National Marine Sanctuaries; ATTN: Superintendent, Greater Farallones and Cordell Bank National Marine Sanctuaries, 991 Marine Dr., The Presidio, San Francisco, CA 94129.

9. on page 967, in the second column, correct amendatory instruction 30 and the regulatory text to read as follows:

30. In § 922.122 revise paragraphs (a)(8), (f), (g), and (h) to read as follows:

§ 922.122 [Corrected]

(a) * * *

(8) Injuring, catching, harvesting, collecting or feeding, or attempting to injure, catch, harvest, collect or feed, any fish within the Sanctuary by use of longlines, traps, nets, bottom trawls or any other gear, device, equipment or means except by use of conventional hook and line gear.

* * * * *

(f) The prohibitions in paragraphs (a)(2) through (11) of this section do not apply to any activity specifically authorized by and conducted in accordance with the scope, purpose, terms, and conditions of a National Marine Sanctuary permit or ONMS authorization issued pursuant to subpart D of this part and § 922.123 or a special use permit issued pursuant to subpart D of this part.

(g) The prohibitions in paragraphs (a)(2) through (11) of this section do not apply to any activity authorized by any lease, permit, license, approval or other authorization issued after January 18, 1994, provided that the applicant complies with § 922.36, the Director notifies the applicant and authorizing agency that he or she does not object to issuance of the authorization, and the applicant complies with any terms and conditions the Director deems necessary to protect Sanctuary resources and qualities.

(h) Notwithstanding paragraphs (f) and (g) of this section, in no event may the Director issue a National Marine Sanctuary permit under subpart D of this part and § 922.123 authorizing, or otherwise approve, the exploration for, development of, or production of oil, gas, or minerals in a no-activity zone. Any leases, permits, approvals, or other authorizations authorizing the exploration for, development of, or production of oil, gas, or minerals in a no-activity zone and issued after January 18, 1994 shall be invalid.

10. On page 967, in the second column, in amendatory instruction 31, correct § 922.123 to read as follows:

§ 922.123 [Corrected]

(a) A person may conduct an activity otherwise prohibited by § 922.122(a)(2) through (11) if such activity is specifically authorized by and conducted in accordance with the scope, purpose, terms, and conditions of a permit issued under this section and subpart D of this part.

(b) Applications for such permits should be addressed to the Director, Office of National Marine Sanctuaries; ATTN: Superintendent, Flower Garden Banks National Marine Sanctuary, 4700 Avenue U, Building 216, Galveston, TX 77551.

11. On page 967, in the third column, correct amendatory instruction 32 and the regulatory text to read as follows:

32. Amend § 922.130 by revising the introductory text, the first sentence of paragraph (a), and the first sentence of paragraph (b) to read as follows:

§ 922.130 [Corrected]

The Monterey Bay National Marine Sanctuary (Sanctuary) consists of two separate areas. The combined area of both parts is approximately 4,601 square nautical miles (nmi²) (6,093 sq. mi.).

(a) The first area consists of an area of approximately 4,016 square nautical miles (nmi²) (5,318 sq. mi.) of coastal and ocean waters, and submerged lands thereunder, in and surrounding Monterey Bay off the central coast of California. * * *

* * * * *

(b) The Davidson Seamount Management Zone is also part of the Sanctuary. This area, bounded by geodetic lines connecting a rectangle centered on the top of the Davidson Seamount, consists of approximately 585 square nmi (nmi²) (774 sq. mi.) of ocean waters and the submerged lands thereunder. * * *

12. On page 967, in the third column, in amendatory instruction 34, correct paragraphs (c)(1), (d), (e) and (f) to read as follows:

§ 922.132 [Corrected]

* * * * *

(c)(1) All Department of Defense activities must be carried out in a manner that avoids to the maximum extent practicable any adverse impacts on Sanctuary resources and qualities. The prohibitions in paragraphs (a)(2) through (12) of this section do not apply to existing military activities carried out by the Department of Defense, as specifically identified in the Final Environmental Impact Statement and Management Plan for the Proposed Monterey Bay National Marine Sanctuary (NOAA, 1992). For purposes of the Davidson Seamount Management Zone, these activities are listed in the 2021 Final Environmental Assessment for Monterey Bay National Marine Sanctuary Management Plan Review. New activities may be exempted from the prohibitions in paragraphs (a)(2) through (12) of this section by the Director after consultation between the Director and the Department of Defense.

* * * * *

(d) The prohibitions in paragraph (a)(1) of this section as it pertains to jade collection in the Sanctuary, and paragraphs (a)(2) through (11) and (13) of this section, do not apply to any activity specifically authorized by and conducted in accordance with the scope, purpose, terms, and conditions of a National Marine Sanctuary permit issued pursuant to subpart D of this part and § 922.133 or a special use permit issued pursuant to subpart D of this part.

(e) The prohibitions in paragraphs (a)(2) through (8), and (a)(12) of this section regarding any introduced species of shellfish that NOAA and the State of California have determined is non-invasive and will not cause significant adverse effects to sanctuary resources or qualities, and that is cultivated in state waters as part of commercial shellfish aquaculture activities, do not apply to any activity authorized by any lease, permit, license, approval, or other authorization issued after the effective date of Sanctuary designation (January 1, 1993) and issued by any Federal, State, or local authority of competent jurisdiction, provided that the applicant complies with § 922.36, the Director notifies the applicant and authorizing agency that he or she does not object to issuance of the authorization, and the applicant complies with any terms and conditions the Director deems necessary to protect Sanctuary resources and qualities. Amendments and extensions of authorizations in existence on the effective date of designation constitute authorizations issued after the effective date of Sanctuary designation.

(f) Notwithstanding paragraphs (d) and (e) of this section, in no event may the Director issue a National Marine Sanctuary permit or ONMS authorization under subpart D of this part authorizing, or otherwise approve, the exploration for, development, or production of oil, gas, or minerals within the Sanctuary, except for the collection of jade pursuant to paragraph (a)(1) of this section; the discharge of primary-treated sewage within the Sanctuary (except by certification, pursuant to § 922.10, of valid authorizations in existence on January 1, 1993 and issued by other authorities of competent jurisdiction); or the disposal of dredged material within the Sanctuary other than at sites authorized by EPA (in consultation with COE) prior to January 1, 1993. For the purposes of this subpart, the disposal of dredged material does not include the beneficial use of dredged material as defined by § 922.131. Any purported authorizations issued by other authorities within the Sanctuary shall be invalid.

13. On page 968, in the third column, in amendatory instruction 38, correct paragraphs (d) and (f) to read as follows:

§ 922.142 [Corrected]

* * * * *

(d) The prohibitions in paragraphs (a)(1) and (3) through (7) of this section do not apply to any activity specifically authorized by and conducted in accordance with the scope, purpose, terms, and conditions of a National Marine Sanctuary permit issued pursuant to subpart D of this part and § 922.143 or a special use permit issued pursuant to subpart D of this part.

* * * * *

(f) Notwithstanding paragraphs (d) and (e) of this section, in no event may the Director issue a permit under subpart D of this part and § 922.143, or a special use permit issued under subpart D, authorizing, or otherwise approving, the exploration for, development or production of industrial materials within the Sanctuary, or the disposal of dredged materials within the Sanctuary (except by a certification, pursuant to § 922.10, of valid authorizations in existence on November 4, 1992) and any leases, licenses, permits, approvals or other authorizations authorizing the exploration for, development or production of industrial materials in the Sanctuary issued by other authorities after November 4, 1992, shall be invalid.

14. On page 969, in the first and second columns, correct amendatory instruction 43 and the regulatory text to read:

43. Amend § 922.152 by revising paragraphs (e) and (h) to read as follows:

§ 922.152 Prohibited or otherwise regulated activities.

* * * * *

(e) The prohibitions in paragraphs (a)(2) through (8) of this section do not apply to any activity specifically authorized by and conducted under and in accordance with the scope, purpose, terms and conditions of a National Marine Sanctuary permit or an ONMS authorization issued pursuant to subpart D of this part and § 922.153 or a special use permit issued pursuant to subpart D of this part.

* * * * *

(h) Notwithstanding paragraphs (e) and (g) of this section, in no event may the Director issue a National Marine Sanctuary permit or ONMS authorization under subpart D of this part and § 922.153 or a special use permit under subpart D of this part authorizing, or otherwise approve: The exploration for, development or production of oil, gas or minerals within the Sanctuary; the discharge of primary-treated sewage within the Sanctuary; the disposal of dredged material within the Sanctuary other than in connection with beach nourishment projects related to the Quillayute River Navigation Project; or bombing activities within the Sanctuary. Any purported authorizations issued by other authorities after July 22, 1994 for any of these activities within the Sanctuary shall be invalid.

15. On page 970, in the first column, correct amendatory instruction 47 and the regulatory text to read:

47. In § 922.162:

a. Revise paragraph (a) introductory text;

b. Remove the definition of “Fish,” “Seagrass,” and “Vessel” in paragraph (a); and

c. Revise paragraph (b).

The revisions read as follows:

§ 922.162 [Corrected]

(a) The following definitions apply to the Florida Keys National Marine Sanctuary regulations. To the extent that a term appears in § 922.11 and this section, the definition in this section governs.

* * * * *

(b) Other terms appearing in the regulations in this part are defined at § 922.11, and/or in the Marine Protection, Research, and Sanctuaries Act (MPRSA), as amended, 33 U.S.C. 1401 et seq. and 16 U.S.C. 1431 et seq.

16. on page 972, in the first column, correct amendatory instruction 53 and the regulatory text to read as follows:

53. Amend § 922.190 by revising the first sentence of paragraph (a) to read as follows:

§ 922.190 [Corrected]

(a) Except as provided in paragraph (b) of this section, the Thunder Bay National Marine Sanctuary and Underwater Preserve (Sanctuary) consists of an area of approximately 3,247 square nautical miles (nmi²) (4,300 sq. mi.) of waters of Lake Huron and the submerged lands thereunder, over, around, and under the underwater cultural resources in Thunder Bay. * * *

* * * * *

17. On page 973, in the second column, remove amendatory instruction 56.

18. On page 973, in the second column, correct amendatory instruction 57 and the regulatory text to read as follows:

57. Revise § 922.205 to read as follows:

§ 922.205 Permit procedures.

(a) A person may conduct an activity otherwise prohibited by § 922.203(a)(1) and (2) if conducted under and in accordance with the scope, purpose, terms and conditions of a permit issued under subpart D of this part.

(b) Applications for such permits should be addressed to the Director, Office of National Marine Sanctuaries; ATTN: Superintendent, Mallows Bay-Potomac River National Marine Sanctuary, 1305 East-West Highway, Silver Spring, MD 20910.

19. on page 973, in the second column, in amendatory instruction 58 correct paragraphs (a) and (j) to read as follows:

§ 922.206 [Corrected]

(a) A person may conduct an activity prohibited by § 922.203(a)(1) through (3) if such activity is specifically authorized by a valid Federal, state, or local lease, permit, license, approval, or other authorization, or tribal right of subsistence use or access in existence prior to the September 3, 2019 sanctuary designation and within the sanctuary designated area and complies with § 922.10 and provided that the holder of the lease, permit, license, approval, or other authorization complies with the requirements of paragraph (e) of this section.

* * * * *

(j) The holder may appeal any action conditioning, amending, suspending, or revoking any certification in accordance with the procedures set forth in § 922.37.

* * * * *

20. On page 973, in the third column, correct amendatory instruction 59 and the regulatory text to read:

59. Revise § 922.215 to read as follows:

§ 922.215 [Corrected]

(a) A person may conduct an activity otherwise prohibited by § 922.213(a)(1) and (2) if conducted under and in accordance with the scope, purpose, terms and conditions of a permit issued under subpart D of this part.

(b) Applications for such permits should be addressed to the Director, Office of National Marine Sanctuaries; ATTN: Superintendent, Wisconsin Shipwreck Coast National Marine Sanctuary, 1305 East-West Highway, Silver Spring, MD 20910.

21. On page 973, in the third column, in amendatory instruction 60, correct paragraphs (a) and (j) to read as follows:

§ 922.216 [Corrected]

(a) A person may conduct an activity prohibited by § 922.213(a)(1) through (3) if such activity is specifically authorized by a valid Federal, state, or local lease, permit, license, approval, or other authorization, or tribal right of subsistence use or access in existence prior to the August 16, 2021 sanctuary designation and within the sanctuary designated area and complies with § 922.10 and provided that the holder of the lease, permit, license, approval, or other authorization complies with the requirements of paragraph (e) of this section.

* * * * *

(j) The holder may appeal any action conditioning, amending, suspending, or revoking any certification in accordance with the procedures set forth in § 922.37.

* * * * *

Correcting Amendments

List of Subjects in 15 CFR Part 922

Administrative practice and procedure, Amendments, Prohibited activities, Water resources.

For the reasons stated in the preamble, NOAA is amending 15 CFR part 922 as follows:

PART 922—NATIONAL MARINE SANCTUARY PROGRAM REGULATIONS

1. The authority citation for part 922 continues to read as follows:

Authority: 16 U.S.C. 1431 et seq.

2. Amend § 922.84 by revising paragraphs (a) and (j) to read as follows:

§ 922.84 Certification of preexisting leases, licenses, permits, approvals, other authorizations, or rights to conduct a prohibited activity.

(a) A person may conduct an activity prohibited by § 922.82(a)(1) through (17) if such activity is specifically authorized by a valid Federal, State, or local lease, permit, license, approval, or other authorization in existence prior to the June 9, 2015 effective date of sanctuary expansion and within the sanctuary expansion area and complies with § 922.10 and provided that the holder of the lease, permit, license, approval, or other authorization complies with the requirements of paragraph (e) of this section.

* * * * *

(j) The holder may appeal any action conditioning, amending, suspending, or revoking any certification in accordance with the procedures set forth in § 922.37.

3. Amend § 922.134 by revising paragraphs (a)(2) and (b)(2) to read as follows:

§ 922.134 Review of certain State permits and leases.

(a) * * *

(2) The MOA specifies how the process of § 922.36 in subpart D will be administered within State waters within the sanctuary in coordination with State permit and lease programs as administered by the California Fish and Game Commission, the Department of Fish and Wildlife and the California Coastal Commission.

(b) * * *

(2) The MOA specifies how the process of § 922.36 in subpart D will be administered within State waters within the Sanctuary in coordination with the State permit program.

4. Amend § 922.193 by revising paragraph (d) introductory text and (d)(1) to read as follows and removing and reserving paragraph (d)(2):

§ 922.193 Prohibited or otherwise regulated activities.

* * * * *

(d) The prohibitions in paragraphs (a)(1) through (3) of this section do not apply to any activity:

(1) Specifically authorized by, and conducted in accordance with the scope, purpose, terms and conditions of, a permit issued pursuant to § 922.195 or a special use permit issued pursuant to subpart D of this part.

(2) [Reserved]

5. Amend § 922.201 by revising paragraph (b) to read as follows:

§ 922.201 Definitions.

* * * * *

(b) All other terms appearing in the regulations in this subpart are defined at § 922.11, and/or in the Marine Protection, Research, and Sanctuaries Act, as amended, 33 U.S.C. 1401 et seq., and 16 U.S.C. 1431 et seq.

6. Amend § 922.211 by revising paragraph (b) to read as follows:

§ 922.211 Definitions.

* * * * *

(b) All other terms appearing in the regulations in this subpart are defined at § 922.11, and/or in the Marine Protection, Research, and Sanctuaries Act, as amended, 33 U.S.C. 1401 et seq., and 16 U.S.C. 1431 et seq.

Nicole R. LeBoeuf,
Assistant Administrator for Ocean Services and Coastal Zone Management, National Ocean Service, National Oceanic and Atmospheric Administration.

[FR Doc. 2023-06612 Filed 4-3-23; 8:45 am]

BILLING CODE 3510-NK-P